DEPARTMENT OF DEFENSE

Office of the Secretary

[Transmittal No. 23-78]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil

SUPPLEMENTARY INFORMATION: This 36(b)(1) arms sales notification is published to fulfill the requirements of section 155 of Public Law 104-164 dated July 21, 1996. The following is a copy of a letter to the Speaker of the House of Representatives with attached Transmittal 23-78, Policy Justification, and Sensitivity of Technology.

Dated: November 18, 2024.
Stephanie J. Bost,
Alternate OSD Federal Register Liaison Officer, Department of Defense.

BILLING CODE 6001-FR-P

BILLING CODE 6001-FR-C

Transmittal No. 23-78

Notice of Proposed Issuance of Letter of Offer Pursuant to Section 36(b)(1) of the Arms Export Control Act, as amended

(i) Prospective Purchaser: Republic of Korea (ROK)

(ii) Total Estimated Value:

Major Defense Equipment * | $385 million
Other | $265 million
TOTAL | $650 million

(iii) Description and Quantity or Quantities of Articles or Services under Consideration for Purchase:

Major Defense Equipment (MDE):

Up to thirty-eight (38) Standard Missile 6 (SM-6) Block I Missiles

Non-MDE: Also included are MK 21 Vertical Launch System (VLS) canisters; obsolescence Engineering, Integration, and Test (EI&T) materiel and support; handling equipment; spares; training and training equipment and aids; technical publications and data; United States (U.S.) Government and contractor engineering and technical assistance, including related studies and analysis support; product support; materiel and support for demonstration and interoperability live fire events; and other related elements of logistics and program support.

(iv) Military Department: Navy (KS-P-ANP)

(v) Prior Related Cases, if any: KS-P-AMO; KS-P-AMR; KS-P-ALM

(vi) Sales Commission, Fee, etc., Paid, Offered, or Agreed to be Paid: None known

(vii) Sensitivity of Technology Contained in the Defense Article or Defense Services Proposed to be Sold: See Attached Annex

(viii) Date Report Delivered to Congress: November 14, 2023

* As defined in Section 47(6) of the Arms Export Control Act.

POLICY JUSTIFICATION

Republic of Korea (ROK)—Standard Missile 6 Block I (SM-6 Blk I)

The Government of the Republic of Korea has requested to buy up to thirty-eight (38) Standard Missile 6 (SM-6) Block I missiles. Also included are MK 21 Vertical Launch System (VLS) canisters; obsolescence Engineering, Integration, and Test (EI&T) materiel and support; handling equipment; spares; training and training equipment and aids; technical publications and data; U.S. Government and contractor engineering and technical assistance, including related studies and analysis support; product support; materiel and support for demonstration and interoperability live fire events; and other related elements of logistics and program support. The estimated total program cost is $650 million.

This proposed sale will support the foreign policy goals and national security objectives of the U.S. by improving the security of a major ally that is a force for political stability and economic progress in the Indo-Pacific region.

The proposed sale will improve the Republic of Korea's capability to meet current and future threats while further enhancing interoperability with the U.S. and other allies. Korea will have no difficulty absorbing these articles into its armed forces.

The proposed sale of this equipment and support will not alter the basic military balance in the region.

The principal contractor will be Raytheon Missiles and Defense (RMD), Tucson, AZ. There are no known offset agreements proposed in connection with this potential sale.

Implementation of the proposed sale will require U.S. Government and contractor personnel to visit the Republic of Korea on a temporary basis in conjunction with program technical oversight and support requirements, including program and technical reviews, as well as to provide training and maintenance support in country.

There will be no adverse impact on U.S. defense readiness as a result of this proposed sale.

Transmittal No. 23-78

Notice of Proposed Issuance of Letter of Offer Pursuant to Section 36(b)(1) of the Arms Export Control Act

Annex

Item No. vii

(vii) Sensitivity of Technology:

1. The Standard Missile-6 (SM-6) is a Navy surface-to-air missile that provides area and ship self-defense. The missile is intended to project power and contribute to raid annihilation by destroying manned fixed and rotary wing aircraft, Unmanned Aerial Vehicles (UAV), Land Attack Cruise Missiles, and Anti-Ship Cruise Missiles in flight. It was designed to fulfill the need for a vertically launched, extended range missile compatible with the AEGIS Weapon System to be used against extended range threats at sea, near land, and overland. The SM-6 combines the tested legacy of Standard Missile 2 (SM-2) propulsion and ordnance with an active radio frequency seeker allowing for over-the-horizon engagements, enhanced capability at extended ranges, and increased firepower.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that the Republic of Korea (ROK) can provide substantially the same degree of protection for the sensitive technology being released as the U.S. Government. This sale is necessary in furtherance of the U.S. foreign policy and national security objectives outlined in the Policy Justification.

5. All defense articles and services listed in this transmittal have been authorized for release and export to the ROK.

[FR Doc. 2024-27299 Filed 11-20-24; 8:45 am]

BILLING CODE 6001-FR-P